DEPARTMENT OF HEALTH AND HUMAN SERVICES

Substance Abuse and Mental Health Services Administration

Center for Substance Abuse Treatment; Notice of a Teleconference Meeting

Pursuant to Public Law 92-463, notice is hereby given of a closed teleconference meeting of the Center for Substance Abuse Treatment (CSAT) National Advisory Council to be held in July 2004.

The meeting will include the review, discussion and evaluation of grant applications reviewed by the Internal Review Groups. Therefore, the meeting will be closed to the public as determined by the SAMHSA Administrator, in accordance with Title 5 U.S.C. 552b(c) and (6) and 5 U.S.C. App. 2, § 10(d).

Substantive program information, including a summary of the meeting, roster of Council members, and the transcript of the meeting, may be obtained by accessing the SAMHSA/CSAT Web site, http://www.samhsa.gov/council/CSAT/csatnac.aspx, or from the contact listed below.

Committee Name: Center for Substance Abuse Treatment National Advisory Council.

Meeting Date: July 22, 2004.

Place: Center for Substance Abuse Treatment, 5515 Security Lane, 6th Floor Conference Room, Suite 615, Rockville, MD 20852.

Type: Closed: July 22, 2004, 1:30-3:30 p.m.

Contact: Cynthia Graham, Executive Secretary, 5600 Fishers Lane, RW II, Ste 619, Rockville, MD 20857, Telephone: (301) 443-8923; FAX: (301) 480-6077, E-mail: cgraham@samhsa.gov.

Dated: July 19, 2004.
Toian Vaughn,
Committee Management Officer, Substance Abuse and Mental Health Services Administration.

This notice is being published less than 15 days prior to the meeting due to the urgent need to meet timing limitations imposed by the review and funding cycle.

[FR Doc. 04-16789 Filed 7-21-04; 8:45 am]

BILLING CODE 4162-20-P